DEPARTMENT OF HEALTH AND HUMAN SERVICES

Health Resources and Services Administration

National Vaccine Injury Compensation Program List of Petitions Received

AGENCY: Health Resources and Services Administration (HRSA), Department of Health and Human Services (HHS).

ACTION: Notice.

SUMMARY: HRSA is publishing this notice of petitions received under the National Vaccine Injury Compensation Program (the Program), as required by the Public Health Service (PHS) Act, as amended. While the Secretary of HHS is named as the respondent in all proceedings brought by the filing of petitions for compensation under the Program, the United States Court of Federal Claims is charged by statute with responsibility for considering and acting upon the petitions.

FOR FURTHER INFORMATION CONTACT: For information about requirements for filing petitions, and the Program in general, contact Lisa L. Reyes, Clerk of Court, United States Court of Federal Claims, 717 Madison Place NW, Washington, DC 20005, (202) 357-6400. For information on HRSA's role in the Program, contact the Director, National Vaccine Injury Compensation Program, 5600 Fishers Lane, Room 8W-25A, Rockville, Maryland 20857; (301) 443-6593, or visit our website at: https://www.hrsa.gov/vaccinecompensation/index.html.

SUPPLEMENTARY INFORMATION: The Program provides a system of no-fault compensation for certain individuals who have been injured by specified childhood vaccines. Subtitle 2 of title XXI of the PHS Act, 42 U.S.C. 300aa-10 et seq., provides that those seeking compensation are to file a petition with the United States Court of Federal Claims and to serve a copy of the petition to the Secretary of HHS, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at 42 CFR 100.3. This Table lists for each covered childhood vaccine the conditions that may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on February 1, 2025, through February 28, 2025. This list provides the name of the petitioner, city, and state of vaccination (if unknown then the city and state of the person or attorney filing the claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “[S]ustained, or had significantly aggravated, any illness, disability, injury, or condition not set forth in the Vaccine Injury Table but which was caused by” one of the vaccines referred to in the Table, or

b. “[S]ustained, or had significantly aggravated, any illness, disability, injury, or condition set forth in the Vaccine Injury Table the first symptom or manifestation of the onset or significant aggravation of which did not occur within the time period set forth in the Table but which was caused by a vaccine” referred to in the Table.

In accordance with section 2112(b)(2), all interested persons may submit written information relevant to the issues described above in the case of the petitions listed below. Any person choosing to do so should file an original and three (3) copies of the information with the Clerk of the United States Court of Federal Claims at the address listed above (under the heading For Further Information Contact), with a copy to HRSA addressed to Director, Division of Injury Compensation Programs, Health Systems Bureau, 5600 Fishers Lane, 8W-25A, Rockville, Maryland 20857. The Court's caption (Petitioner's Name v. Secretary of HHS) and the docket number assigned to the petition should be used as the caption for the written submission. Chapter 35 of title 44, United States Code, related to paperwork reduction, does not apply to information required for purposes of carrying out the Program.

Thomas J. Engels,
Administrator.

List of Petitions Filed

1. Leann Diercks, Grafton, Wisconsin, Court of Federal Claims No: 25-0192V

2. Da Vang, Black River Falls, Wisconsin, Court of Federal Claims No: 25-0194V

3. Brenda Fernandez, Scottsdale, Arizona, Court of Federal Claims No: 25-0197V

4. Kathryn Christin Uberti, Everett, Washington, Court of Federal Claims No: 25-0198V

5. Rick Gardner, Grand Rapids, Michigan, Court of Federal Claims No: 25-0199V

6. Kennedy Wall, Cincinnati, Ohio, Court of Federal Claims No: 25-0200V

7. Elizabeth Morales, Burbank, California, Court of Federal Claims No: 25-0205V

8. Terrelle Oliver, Oshkosh, Wisconsin, Court of Federal Claims No: 25-0206V

9. Dawn Clayton, Sidney, Ohio, Court of Federal Claims No: 25-0207V

10. Sandra DeMetz, Elkhart, Indiana, Court of Federal Claims No: 25-0209V

11. Cecilia Beltran, Tampa, Florida, Court of Federal Claims No: 25-0210V

12. DeAnne Carr, Louisville, Kentucky, Court of Federal Claims No: 25-0214V

13. Maria del Rosario Mansilla Rojas, Stockton, California, Court of Federal Claims No: 25-0215V

14. Patricia Dean, Olympia Fields, Illinois, Court of Federal Claims No: 25-0217V

15. Barbara Silverman, La Plata, Maryland, Court of Federal Claims No: 25-0223V

16. Jenifer Taylor, Sylvester, Georgia, Court of Federal Claims No: 25-0224V

17. Barry Ketter, Chicago, Illinois, Court of Federal Claims No: 25-0227V

18. Dianne Campo, Boston, Massachusetts, Court of Federal Claims No: 25-0228V

19. Robert Meyer, Boston, Massachusetts, Court of Federal Claims No: 25-0229V

20. Delmont Likins, Portland, Oregon, Court of Federal Claims No: 25-0231V

21. Katie Dienberg on behalf of L.D., Oak Creek, Wisconsin, Court of Federal Claims No: 25-0233V

22. Robin L. Fletcher, Chesapeake, Ohio, Court of Federal Claims No: 25-0235V

23. Riley Corbitt, New York, New York, Court of Federal Claims No: 25-0237V

24. Nakia Payton, Philadelphia, Pennsylvania, Court of Federal Claims No: 25-0239V

25. Steven Gendron, Hudson, New Hampshire, Court of Federal Claims No: 25-0241V

26. Meghan Thibodeau, Round Rock, Texas, Court of Federal Claims No: 25-0245V

27. Chadwick Wilson, Long Beach, California, Court of Federal Claims No: 25-0249V

28. Colin Watters and Kelly Ryan Watters on behalf of Estate of F.R.W., Deceased, Closter, New Jersey, Court of Federal Claims No: 25-0251V

29. Diana Smith, Boston, Massachusetts, Court of Federal Claims No: 25-0252V

30. Constantia Kyrou, Beavercreek, Ohio, Court of Federal Claims No: 25-0253V

31. Olivia Gunter, Oak Park, Illinois, Court of Federal Claims No: 25-0255V

32. Kenneth Burnham, Spring Grove, Pennsylvania, Court of Federal Claims No: 25-0256V

33. Retha Haze, Dublin, Georgia, Court of Federal Claims No: 25-0257V

34. George Cuccia, Delray Beach, Florida, Court of Federal Claims No: 25-0258V

35. Joleen Holmstrom, Boston, Massachusetts, Court of Federal Claims No: 25-0259V

36. Angela Thacker, Boston, Massachusetts, Court of Federal Claims No: 25-0260V

37. Josh Cook, Highlands Ranch, Colorado, Court of Federal Claims No: 25-0261V

38. Karen Cuffie, Fort Washington, Maryland, Court of Federal Claims No: 25-0262V

39. Elizabeth Tzotchev, San Diego, California, Court of Federal Claims No: 25-0263V

40. Gloria J. Condon, Rochester, New York, Court of Federal Claims No: 25-0264V

41. Rodney Boone, Burlington, New Jersey, Court of Federal Claims No: 25-0265V

42. Bailey Nicholson, Elkhart, Kansas, Court of Federal Claims No: 25-0267V

43. Hannah Navarre, Woodbridge, Virginia, Court of Federal Claims No: 25-0268V

44. Thomas Stokes, Cornwell Heights, Pennsylvania, Court of Federal Claims No: 25-0269V

45. Chantel Maahs, Lee, New Hampshire, Court of Federal Claims No: 25-0270V

46. Dayna Comins, Sunnyside, New York, Court of Federal Claims No: 25-0276V

47. Dallece Curley, Cambridge, Massachusetts, Court of Federal Claims No: 25-0277V

48. Theodore McKinney, Cherry Hill Township, New Jersey, Court of Federal Claims No: 25-0281V

49. Shilah Cash, Norwalk, Iowa, Court of Federal Claims No: 25-0285V

50. Heather Camacho, Litchfield Park, Arizona, Court of Federal Claims No: 25-0287V

51. Madison Quinn Gaskin, White Marsh, Maryland, Court of Federal Claims No: 25-0289V

52. Heather MacDougall, Seattle, Washington, Court of Federal Claims No: 25-0293V

53. Forrest Christo, Bend, Oregon, Court of Federal Claims No: 25-0294V

54. Irene Gonzalez Martinez, Santa Rosa, California, Court of Federal Claims No: 25-0296V

55. Sarah Voelcker, Pate, Texas, Court of Federal Claims No: 25-0297V

56. Asia Kane, Portland, Oregon, Court of Federal Claims No: 25-0298V

57. Michael Martinez, Boston, Massachusetts, Court of Federal Claims No: 25-0304V

58. Nancy Kay, Oakland, California, Court of Federal Claims No: 25-0308V

59. Kadijah Chesson, Knightdale, North Carolina, Court of Federal Claims No: 25-0309V

60. Kelley Cundiff, Bermuda Run, North Carolina, Court of Federal Claims No: 25-0311V

61. Jaime Johnson, Rhinelander, Wisconsin, Court of Federal Claims No: 25-0313V

62. Eleanor Brown, Los Angeles, California, Court of Federal Claims No: 25-0317V

63. Kate Peabody, Los Angeles, California, Court of Federal Claims No: 25-0320V

64. Jessica Damiani, Dresher, Pennsylvania, Court of Federal Claims No: 25-0322V

65. Stephanie Latimer, Mesa, Arizona, Court of Federal Claims No: 25-0323V

66. Jerome Nash, Franklinville, North Carolina, Court of Federal Claims No: 25-0324V

67. Aaron Carico, Brooklyn, New York, Court of Federal Claims No: 25-0331V

68. Jennifer McGarvin, Lyndonville, Vermont, Court of Federal Claims No: 25-0335V

69. Rosauara Vasquez, Bronx, New York, Court of Federal Claims No: 25-0336V

70. Lonell Echols, Waupun, Wisconsin, Court of Federal Claims No: 25-0337V

71. Patricia Dewitt, Boston, Massachusetts, Court of Federal Claims No: 25-0339V

72. Mary Byrd, New York, New York, Court of Federal Claims No: 25-0340V

73. Frances Collier, Gainesville, Georgia, Court of Federal Claims No: 25-0342V

74. Kimberly Norris, Mobile, Alabama, Court of Federal Claims No: 25-0343V

75. Gina Thomason, Eagle Grove, Iowa, Court of Federal Claims No: 25-0344V

76. Phillip Lee, Marietta, Georgia, Court of Federal Claims No: 25-0345V

77. Shatrece Minett, Racine, Wisconsin, Court of Federal Claims No: 25-0347V

78. Philip Groves, New York, New York, Court of Federal Claims No: 25-0348V

79. Debbie Simeon, Dresher, Pennsylvania, Court of Federal Claims No: 25-0349V

80. Rhonda Uselman, Sauk City, Wisconsin, Court of Federal Claims No: 25-0353V

81. Heidi Brown, New Orleans, Louisiana, Court of Federal Claims No: 25-0354V

82. Stephanie M. Grzegorski, Milwaukee, Wisconsin, Court of Federal Claims No: 25-0357V

83. David M. Wilson, Black River Falls, Wisconsin, Court of Federal Claims No: 25-0358V

84. Marina Goncharova, Las Vegas, Nevada, Court of Federal Claims No: 25-0360V

85. James Hart, Franklin, Ohio, Court of Federal Claims No: 25-0362V

86. David M. Wilson, Black River Falls, Wisconsin, Court of Federal Claims No: 25-0363V

[FR Doc. 2025-05716 Filed 4-2-25; 8:45 am]

BILLING CODE 4165-15-P